FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

M & M Cargo Express, Corp., 338 NW 12th Avenue, Miami, FL 33128. Officer: Rommel M. Briceno, Corporate Officer (Qualifying Individual)

Rasscom USA, LLC, 19201 Susana Road, Rancho Dominguez, CA 90221. Officers: Ernest L. Givens, Vice President (Qualifying Individual) John Yelland, President

Polish Cargo Shipping Center, Inc., 2850 Brunswick Pike, Lawrenceville, NJ 08648. Officers: Miroslaw K. Adolf, Partner (Qualifying Individual) M. Pghemek Adolf, President

American Freight Logistics, Inc., 1077 E. Magnolia Blvd., Burbank, CA 91501. Officers: Yan (Sandy) Yu, Secretary (Qualifying Individual) Xiao Rong (Jennifer) McCormick, President

Los Paisanos Export & Import Corp., 880 SW 1st Street, Miami, FL 33130. Officer: Vicente Alejandro Pavon, President (Qualifying Individual)

Fond Express Logistics Inc., 10418 La Cienega Blvd., Inglewood, CA 90304. Officer: Ernest So, President (Qualifying Individual)

Cargo Distribution International, Inc., 221 Joey Drive, Suite A, Elk Grove Village, IL 60007. Officer: Constantine Dussias, President (Qualifying Individual)

Oceanic General Agency, Inc., Metro Office Park, Building Lot No. 11, Guaynabo, Puerto Rico 00968. Officers: David R. Sagarra, Jr., President (Qualifying Individual) Salustiano Alvez Mendez, Vice President

Integrated Creative Resources Initiatives, Corporation dba Inquirer Golden Bells Cargo, 500 E. Carson Street, #209, Carson, CA 90745. Officers: Solomon Pineda, Vice President (Qualifying Individual) Aurelio S. Agcaoili, President

Francisca Envios, Inc., 1749 NW 21 Terrace, Miami, FL 33142. Officer: Jose Omar Cabrera, Vice President (Qualifying Individual)

Non-Vessel-Operating Common Carrier and Ocean Freight Forwarder Transportation Intermediary Applicants:

Altorky Group Inc. dba In & Out Cargo, 6201 Bonhomme, #208-N, Houston, TX 77036. Officers: Ahmed K. Ibrahim, President (Qualifying Individual) Amal M. Chehade, Vice President

Export Service International Forwarding LLC, 13225 FM 529, Suite 204, Houston, TX 77041. Officers: Kelly Leger, President (Qualifying Individual) Lester Leger, Vice President

LMJ International Logistics, LLC, 2227 U.S. Hwy No. 1, Suite 179, North Brunswick, NJ 08902. Officer: Leila Jubran, President (Qualifying Individual)

Unity Shipping, Inc. dba Unity Logistics Group, 10305 NW 41st Street, Suite 135, Miami, FL 33178. Officers: Albert De Rojas, President (Qualifying Individual) Steven Calderon, Vice President

James Global Logistics, Inc., 405 Atlantis Road, Suite A-107, Cape Canaveral, FL 32920. Officer: James F. Hahn, President (Qualifying Individual)

Ocean Freight Forwarder—Ocean Transportation Intermediary Applicants:

FT Worldwide, LLC, 2979 Rushland Road, Jamison, PA 18929. Officer: Michael Shragher, President (Qualifying Individual)

Elite International Services, Inc., 1535 Land Road, Dalton, GA 30721. Officer: Linnie Michelle Cox, President (Qualifying Individual)

Dated: August 19, 2005.
Bryant L. VanBrakle,
Secretary.

[FR Doc. 05-16858 Filed 8-24-05; 8:45 am]

BILLING CODE 6730-01-P